DEPARTMENT OF COMMERCE

National Oceanic and Atmospheric Administration

RIN 0648-XG336

International Whaling Commission; 67th Meeting; Announcement of Public Meeting

AGENCY: National Marine Fisheries Service (NMFS), National Oceanic and Atmospheric Administration (NOAA), Commerce.

ACTION: Notice of public meeting.

SUMMARY: This notice announces the date, time, and location of the public meeting being held prior to the 67th meeting of the International Whaling Commission (IWC). Because the meeting will address U.S. positions, any U.S. citizen with an identifiable interest in U.S. whale conservation policy may participate, but NOAA reserves the authority to inquire about the interests of any person who appears at the meeting and to determine the appropriateness of that person's participation.

DATES: The public meeting will be held August 7, 2018 at 9:00 a.m.

ADDRESSES: The meeting will be held at the Silver Spring Civic Center, 1 Veterans Pl, Silver Spring, MD 20910, in the Spring Room.

FOR FURTHER INFORMATION CONTACT: Carolyn Doherty, Office of International Affairs and Seafood Inspection, NOAA Fisheries (phone: (301) 427-8385 or email: Carolyn.Doherty@noaa.gov).

SUPPLEMENTARY INFORMATION: The Secretary of Commerce is responsible for discharging the domestic obligations of the United States under the International Convention for the Regulation of Whaling, 1946. The U.S. IWC Commissioner has responsibility for the preparation and negotiation of U.S. positions on international issues concerning whaling and for all matters involving the IWC. The U.S. IWC Commissioner is staffed by the Department of Commerce and assisted by the Department of State, the Department of the Interior, the Marine Mammal Commission, and other U.S. Government agencies.

Additional information about the IWC meeting, including a draft agenda for the meeting, is posted on the IWC Secretariat's website at https://iwc.int/iwc67.

NOAA will a hold public meeting to discuss the tentative U.S. positions for the September 2018 IWC meeting in Florianopolis, Brazil. Because the meeting will address U.S. positions, the substance of the meeting must be kept confidential. Any U.S. citizen with an identifiable interest in U.S. whale conservation policy may participate, but NOAA reserves the authority to inquire about the interests of any person who appears at the meeting and to determine the appropriateness of that person's participation. In particular, persons who represent foreign interests may not attend. Persons deemed by NOAA to be ineligible to attend will be asked to leave the meeting. These stringent measures are necessary to protect the confidentiality of U.S. negotiating positions.

The August 7, 2018, meeting will be held at 9:00 a.m. in the Spring Room of the Silver Spring Civic Center, 1 Veterans Pl, Silver Spring, MD 20910.

Special Accommodations

The meeting is physically accessible to people with disabilities. Requests for sign language interpretation or other auxiliary aids should be directed to Carolyn Doherty, Carolyn.Doherty@noaa.gov or (301) 427-8385, by July 23, 2018.

Dated: July 12, 2018.
Christopher W. Rogers,
Acting Director, Office of International Affairs and Seafood Inspection, National Marine Fisheries Service.

[FR Doc. 2018-15237 Filed 7-16-18; 8:45 am]

BILLING CODE 3510-22-P